DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Evaluation of the Implementation of TeamSTEPPS in Primary Care Settings (ITS-PC).” In accordance with the Paperwork Reduction Act of 1995, Public Law 104-13 (44 U.S.C. 3506(c)(2)(A)), AHRQ invites the public to comment on this proposed information collection.

This proposed information collection was previously published in the Federal Register on May 21st, 2014 and allowed 60 days for public comment. No comments were received. The purpose of this notice is to allow an additional 30 days for public comment.

DATES: Comments on this notice must be received by September 3, 2014.

ADDRESSES: Written comments should be submitted to: Doris Lefkowitz, Reports Clearance Officer, AHRQ, by email at doris.lefkowitz@ahrq.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@ahrq.hhs.gov.

SUPPLEMENTARY INFORMATION:

Proposed Project

Evaluation of the Implementation of TeamSTEPPS in Primary Care Settings (ITS-PC)

As part of its effort to fulfill its mission goals, AHRQ, in collaboration with the Department of Defense's (DoD) Tricare Management Activity (TMA), developed TeamSTEPPS® (aka, Team Strategies and Tools for Enhancing Performance and Patient Safety) to provide an evidence-based suite of tools and strategies for training teamwork-based patient safety to health care professionals. TeamSTEPPS includes multiple toolkits which are all tied to or are variants of the core curriculum. In addition to the core curriculum, TeamSTEPPS resources have been developed for primary care, rapid response systems, long-term care, and patients with limited English proficiency.

The main objective of the TeamSTEPPS program is to improve patient safety by training health care staff in various teamwork, communication, and patient safety concepts, tools, and techniques and ultimately helping to build national capacity for supporting teamwork-based patient safety efforts in health care organizations. Since 2007, AHRQ's National Implementation Program has produced (and continues to produce) Master Trainers who have stimulated the use and adoption of TeamSTEPPS in health care delivery systems. These individuals were trained using the TeamSTEPPS core curriculum at regional training centers across the U.S. AHRQ has also provided technical assistance and consultation on implementing TeamSTEPPS and has developed various channels of learning (e.g., user networks, various educational venues) for continued support and the improvement of teamwork in health care. Since the inception of the National Implementation Program, AHRQ has trained more than 5,000 participants to serve as TeamSTEPPS Master Trainers.

Given the success of the National Implementation Program, AHRQ launched an effort to provide TeamSTEPPS training to primary care health professionals using the TeamSTEPPS in Primary Care version of the curriculum. Most of the participants in the current National Implementation Program's training come from hospital settings, because the TeamSTEPPS core curriculum is most aligned with that context. Under this new initiative, primary care practice facilitators will be trained through a combination of in-person and online training. Upon completion of the course, these individuals will be Master Trainers who will (a) train the staff at primary care practices, and (b) implement or support the implementation of TeamSTEPPS tools and strategies in primary care practices.

As part of this initiative, AHRQ seeks to conduct an evaluation of the TeamSTEPPS in Primary Care training program. This evaluation seeks to understand the effectiveness of the TeamSTEPPS in Primary Care training and how trained practice facilitators implement TeamSTEPPS in primary care practices.

This research has the following goals:

(1) Conduct a formative assessment of the TeamSTEPPS for Primary Care training program to determine what revisions and improvement should be made to the training and how it is delivered, and

(2) Identify how trained participants use and implement the TeamSTEPPS tools and resources in primary care settings.

This study is being conducted by AHRQ through its contractor, the Health Research and Education Trust (HRET) and HRET's subcontractor, IMPAQ International, pursuant to AHRQ's statutory authority to conduct and support research on healthcare and on systems for the delivery of such care, including activities with respect to the quality, effectiveness, efficiency, appropriateness and value of healthcare services and with respect to quality measurement and improvement. 42 U.S.C. 299a(a)(1) and (2).

Method of Collection

To achieve the goals of this project, AHRQ will train primary care practice facilitators using the TeamSTEPPS in Primary Care training curriculum. Primary care practice facilitators may voluntarily sign up for this free, AHRQ sponsored training. Training will be delivered through a combination of online and in-person instruction. Online training will cover the core TeamSTEPPS tools and strategies that can be implemented in primary care. In-person instruction will cover coaching, organizational change, and implementation science. Practice facilitators, who complete the training, will be surveyed six months post-training.

The TeamSTEPPS Primary Care Post-Training Survey is an online instrument that will be administered to all primary care practice facilitators who complete the TeamSTEPPS in Primary Care training. The survey will be administered six months after participants complete training.

This is a new data collection effort for the purpose of conducting an evaluation of TeamSTEPPS in Primary Care Training. The evaluation is formative in nature as AHRQ seeks information to improve the content and delivery of the training. Training will be provided through a combination of online and in-person instruction.

To conduct the evaluation, the TeamSTEPPS in Primary Care Post-Training Survey will be administered to all individuals who complete the TeamSTEPPS in Primary Care training six months after training. The survey assesses the degree to which participants felt prepared by the training and what they did to implement TeamSTEPPS in primary care practices. Specifically, participants will be asked about their reasons for participating in the program; the degree to which they feel the training prepared them to train others in and use TeamSTEPPS in the primary care setting; what tools they have implemented in primary care practices; and resulting changes they have observed in the delivery of care.

Estimated Annual Respondent Burden

Exhibit 1 shows the estimated annualized burden hours for the respondent's time to participate in the study. The TeamSTEPPS in Primary Care Post-Training Survey will be completed by approximately 150 individuals. We estimate that each respondent will answer 20 items (i.e., number of responses per respondent) and responding to these 20 questions will require 20 minutes. The total annualized burden is estimated to be 50 hours.

Exhibit 2 shows the estimated annualized cost burden based on the respondents' time to participate in the study. The total cost burden is estimated to be $4,348.

Exhibit 1—Estimated Annualized Burden Hours
Form name | Number of respondents | Number of responses per respondent | Hours per response | Total burden hours
TeamSTEPPS in Primary Care Post-Training Survey | 150 | 1 | 20/60 | 50
Total | 150 | NA | NA | 50

Exhibit 2—Estimated Annualized Cost Burden
Form name | Number of respondents | Total burden hours | Average hourly wage rate * | Total cost burden
TeamSTEPPS Primary Care Post-Training Survey | 150 | 50 | ᵃ $86.95 | $4,348
Total | 150 | 50 | 86.95 | 4,348
* National Compensation Survey: Occupational wages in the United States May 2012, “U.S. Department of Labor, Bureau of Labor Statistics.”
ᵃ Based on the mean wages for Family and General Practitioners 29-1062.

Request for Comments

In accordance with the Paperwork Reduction Act, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: July 25, 2014.
Richard Kronick,
AHRQ Director.

[FR Doc. 2014-18299 Filed 8-1-14; 8:45 am]

BILLING CODE 4160-90-P